DEPARTMENT OF TRANSPORTATION

Federal Aviation Administration

14 CFR Part 39

[Docket No. FAA-2016-8844; Directorate Identifier 2016-NM-026-AD; Amendment 39-18833; AD 2017-06-09]

RIN 2120-AA64

Airworthiness Directives; The Boeing Company Airplanes

AGENCY: Federal Aviation Administration (FAA), DOT.

ACTION: Final rule.

SUMMARY: We are adopting a new airworthiness directive (AD) for certain The Boeing Company Model 787-8 airplanes. This AD was prompted by a report indicating that the fire block in the closets and video control stations, and fire blocking tape in the floor panel opening in the forward and aft main passenger cabin, might be missing on some airplanes. This AD requires installing a fire block in the closets and video control stations, as applicable, and installing fire blocking tape in the floor panel openings in the forward and aft main passenger cabin. We are issuing this AD to address the unsafe condition on these products.

DATES: This AD is effective May 1, 2017.

The Director of the Federal Register approved the incorporation by reference of certain publications listed in this AD as of May 1, 2017.

ADDRESSES: For service information identified in this final rule, contact Boeing Commercial Airplanes, Attention: Contractual & Data Services (C&DS), 2600 Westminster Blvd., MC 110-SK57, Seal Beach, CA 90740; telephone 562-797-1717; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2016-8844.

Examining the AD Docket

You may examine the AD docket on the Internet at http://www.regulations.gov by searching for and locating Docket No. FAA-2016-8844; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Susan L. Monroe, Aerospace Engineer, Cabin Safety and Environmental Systems Branch, ANM-150S, FAA, Seattle Aircraft Certification Office (ACO), 1601 Lind Avenue SW., Renton, WA 98057-3356; phone: 425-917-6457; fax: 425-917-6590; email: susan.l.monroe@faa.gov.

SUPPLEMENTARY INFORMATION:

Discussion

We issued a notice of proposed rulemaking (NPRM) to amend 14 CFR part 39 by adding an AD that would apply to certain The Boeing Company Model 787-8 airplanes. The NPRM published in the Federal Register on August 17, 2016 (81 FR 54750) (“the NPRM”). The NPRM was prompted by a report indicating that the fire block in the closets and video control stations, and fire blocking tape in the floor panel opening in the forward and aft main passenger cabin, might be missing on some airplanes. The NPRM proposed to require installing a fire block in the closets and video control stations, as applicable, and installing fire blocking tape in the floor panel openings in the forward and aft main passenger cabin. We are issuing this AD to prevent propagation of a fire in the lower lobe cheek area outboard of a closet or video control station. Such propagation could result in an increased risk of smoke and/or fire propagation into the passenger cabin.

Comments

We gave the public the opportunity to participate in developing this AD. The following presents the comments received on the NPRM and the FAA's response to each comment.

Support for NPRM

The Air Line Pilots Association, International indicated its support for the intent of the NPRM.

Request To Clarify the Unsafe Condition

Boeing asked that we clarify certain language related to the unsafe condition throughout the NPRM. Boeing stated that the location of the unsafe condition, referred to in the NPRM as “video control station and closets,” should be changed to “closets and video control stations.” Boeing stated that closets and video control stations are two separate monument designs, and the current wording implies that the requirement applies only to monuments with video controls.

We agree with the commenter's request for the reason provided. We have clarified this language in all applicable sections of this AD.

Request To Include Later Revision of Service Information

United Airlines (UA) asked that we include Issue 002 of Boeing Alert Service Bulletin B787-81205-SB530018-00, for accomplishing certain actions in the proposed AD. UA stated that it was informed by Boeing that Issue 002 is in work. UA noted that adding this later revision will minimize potential requests for alternative methods of compliance (AMOCs).

We do not agree with the commenter's request. We do not consider that delaying this final rule until after the release of the manufacturer's planned service information (Issue 002 of Boeing Alert Service Bulletin B787-81205-SB530018-00) is warranted. We have identified an unsafe condition and the actions specified in Boeing Alert Service Bulletin B787-81205-SB530018-00, Issue 001, dated June 7, 2013, address the unsafe condition for airplanes identified in paragraph (g)(3) of this AD. However, under the provisions of paragraph (h) of this AD, operators may request approval to use later revisions of the service information as an AMOC with this AD. We have not changed this AD in this regard.

Request To Issue Two ADs Instead of One

UA asked that we split the NPRM into two ADs; one AD for Boeing Alert Service Bulletin B787-81205-SB250028-00, Issue 001, dated August 1, 2013; and Boeing Alert Service Bulletin B787-81205-SB250070-00, Issue 001, dated March 10, 2015; and one AD for Boeing Alert Service Bulletin B787-81205-SB530018-00, Issue 001, dated June 7, 2013. UA stated that although all of this service information addresses fire blocking, different areas with different procedures are specified in each service bulletin.

We do not agree with the commenter's request. We do not consider that delaying this final rule, so that the required actions can be split into two ADs based on the location of the corrective actions, is warranted. In order to address the identified unsafe condition in a timely manner, we find that we must issue this AD by mandating the specified actions described in the referenced service information. We have not changed this AD in this regard.

Request To Clarify Certain Action in the Costs of Compliance Section

Boeing asked that we change the phrase “video control closet” to “closet” in the Costs of Compliance section, for clarification. Boeing stated that the referenced service information does not have a monument listing for a “video control closet” but lists this monument as a “closet.”

We agree with the commenter's request for the reason provided. We have changed this language in the Costs of Compliance section accordingly.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed the following service information:

Boeing Alert Service Bulletin B787-81205-SB250028-00, Issue 001, dated August 1, 2013. The service information describes procedures for installing a fire block in the closets and video control stations.

Boeing Alert Service Bulletin B787-81205-SB250070-00, Issue 001, dated March 10, 2015. The service information describes procedures for installing a fire block in the video control station.

Boeing Alert Service Bulletin B787-81205-SB530018-00, Issue 001, dated June 7, 2013. The service information describes procedures for installing fire blocking tape in the floor panel openings in the forward and aft main passenger cabin.

This service information is reasonably available because the interested parties have access to it through their normal course of business or by the means identified in the ADDRESSES section.

Costs of Compliance

We estimate that this AD affects 6 airplanes of U.S. registry. We estimate the following costs to comply with this AD:

Estimated Costs
Action | Labor cost | Parts cost | Cost per product | Cost on U.S. operators
Fire blocking tape installation in the floor panel openings | Up to 23 work-hours × $85 per hour = $1,955 per installation | $0 | Up to $1,955 per installation | Up to $11,730 per installation.
Fire block installation in the closet | 5 work-hours × $85 per hour = $425 per installation | 489 | $914 per installation | $5,484 per installation.
Fire block installation in the video control station | 5 work-hours × $85 per hour = $425 per installation | 276 | $701 per installation | $4,206 per installation.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-06-09 The Boeing Company: Amendment 39-18833; Docket No. FAA-2016-8844; Directorate Identifier 2016-NM-026-AD.

(a) Effective Date

This AD is effective May 1, 2017.

(b) Affected ADs

None.

(c) Applicability

This AD applies to The Boeing Company Model 787-8 airplanes, certificated in any category, as identified in the service information specified in paragraphs (c)(1), (c)(2), and (c)(3) of this AD.

(1) Boeing Alert Service Bulletin B787-81205-SB250028-00, Issue 001, dated August 1, 2013.

(2) Boeing Alert Service Bulletin B787-81205-SB250070-00, Issue 001, dated March 10, 2015.

(3) Boeing Alert Service Bulletin B787-81205-SB530018-00, Issue 001, dated June 7, 2013.

(d) Subject

Air Transport Association (ATA) of America Code 25, Equipment/furnishings; 53, Fuselage.

(e) Unsafe Condition

This AD was prompted by a report indicating that the fire block in the closets and video control stations, and fire blocking tape in the floor panel opening in the forward and aft main passenger cabin, might be missing on some airplanes. We are issuing this AD to prevent propagation of a fire in the lower lobe cheek area outboard of a closet or video control station. Such propagation could result in an increased risk of smoke and/or fire propagation into the passenger cabin.

(f) Compliance

Comply with this AD within the compliance times specified, unless already done.

(g) Installation of Fire Block and Fire Blocking Tape, as Applicable

Within 72 months after the effective date of this AD, do the actions specified in paragraphs (g)(1), (g)(2), and (g)(3) of this AD, as applicable.

(1) For airplanes specified in Boeing Alert Service Bulletin B787-81205-SB250028-00, Issue 001, dated August 1, 2013: Install a fire block in the closets and video control stations, as applicable, in accordance with the Accomplishment Instructions of Boeing Alert Service Bulletin B787-81205-SB250028-00, Issue 001, dated August 1, 2013.

(2) For airplanes specified in Boeing Alert Service Bulletin B787-81205-SB250070-00, Issue 001, dated March 10, 2015: Install a fire block in the video control station, in accordance with the Accomplishment Instructions of Boeing Alert Service Bulletin B787-81205-SB250070-00, Issue 001, dated March 10, 2015.

(3) For airplanes specified in Boeing Alert Service Bulletin B787-81205-SB530018-00, Issue 001, dated June 7, 2013: Install fire blocking tape in the floor panel openings in the forward and aft main passenger cabin, in accordance with the Accomplishment Instructions of Boeing Alert Service Bulletin B787-81205-SB530018-00, Issue 001, dated June 7, 2013.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) For service information that contains steps that are labeled as Required for Compliance (RC), the provisions of paragraphs (h)(4)(i) and (h)(4)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(i) Related Information

For more information about this AD, contact Susan L. Monroe, Aerospace Engineer, Cabin Safety and Environmental Systems Branch, ANM-150S, FAA, Seattle Aircraft Certification Office (ACO), 1601 Lind Avenue SW., Renton, WA 98057-3356; phone: 425-917-6457; fax: 425-917-6590; email: susan.l.monroe@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin B787-81205-SB250028-00, Issue 001, dated August 1, 2013.

(ii) Boeing Alert Service Bulletin B787-81205-SB250070-00, Issue 001, dated March 10, 2015.

(iii) Boeing Alert Service Bulletin B787-81205-SB530018-00, Issue 001, dated June 7, 2013.

(3) For service information identified in this AD, contact Boeing Commercial Airplanes, Attention: Contractual & Data Services (C&DS), 2600 Westminster Blvd., MC 110-SK57, Seal Beach, CA 90740; telephone 562-797-1717; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 14, 2017.
Dionne Palermo,
Acting Manager, Transport Airplane Directorate, Aircraft Certification Service.

[FR Doc. 2017-05521 Filed 3-24-17; 8:45 am]

BILLING CODE 4910-13-P